ENVIRONMENTAL PROTECTION AGENCY

[ER-FRL-6694-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070386, ERP No. D-NRC-E06024-GA, Vogtle Electric Generating Plant Site, Issuance of an Early Site Permit (ESP) for Construction and Operation of a New Nuclear Power Generating Facility, NUREG-1872, Burke County, GA.

Summary: EPA expressed environmental concern about impacts to surface water under level 4 drought conditions and impacts to drinking water sources. EPA also requested radiological monitoring of all plant effluents, appropriate storage and disposition of radioactive waste and compliance with the NPDES Permit. Rating EC1.

EIS No. 20070400, ERP No. D-FRC-K05065-CA, Upper American River Hydroelectric FERC NO. 2101-084, El Dorado and Sacramento Counties, CA and Chili Bar Hydroelectric FERC No. 2155-024, El Dorado County, CA, Issuance of a New License for the Existing and Proposed Hydropower Projects.

Summary: EPA has no objections to the proposed project. Rating LO.

EIS No. 20070412, ERP No. D-TVA-E08022-TN, Ruthford-Williamson-Davidson Power Supply Improvement Project, Proposes to Construct and Operate a New 500-kilovolt (kV) Ruthford Substation, a New 27-mile 500-kV Transmission Line and Two New 9- and 15-mile 161-kV Transmission Lines, Ruthford, Williamson Counties, TN.

Summary: EPA expressed concern about impacts to water quality, wetlands, forested wetlands, and riparian vegetation. Rating EC2.

EIS No. 20070425, ERP No. D-COE-E39071-00, Wolf Dam/Lake Cumberland Project, Emergency Measures in Response to Seepage, Mississippi River, South Central Kentucky and Central Tennessee.

Summary: EPA expressed environmental concerns about impacts related to water quantity and water quality in the reservoir and project dam releases, and recommends that specific mitigation measures and monitoring efforts be implemented. Rating EC1.

EIS No. 20070431, ERP No. D-NOA-E91020-00, Snapper Grouper Fishery Amendment 15A, Proposes Management Reference Points and Rebuilding Plans for Snowy Grouper, Black Sea Bass and Red Porgy, South Atlantic Region.

Summary: While EPA has no objections to the proposed action, we suggested that shorter recovery schedules are considered. Rating LO.

Final EISs

EIS No. 20070395, ERP No. F-USA-D15001-MD, Fort George G. Meade Base Realignment and Closure 2005 and Enhanced Use Lease (EUL) Actions, Implementation, Anne Arundel, Howard, Montgomery, Prince George's Counties, MD.

Summary: EPA continues to express concern about natural resource impacts, and recommends additional avoidance, minimization, and mitigation measures be implemented.

EIS No. 20070397, ERP No. F-AFS-L65537-WA, Tripod Fire Salvage Project, Proposal to Salvage Harvest Dead Trees and Fire-Injured Trees Expected to Die Within One Year, Methow Valley and Tonasket Ranger Districts, Okanogan and Wenatchee National Forests, Okanogan County, WA.

Summary: EPA has no objections to the action as proposed.

EIS No. 20070434, ERP No. F-USN-K13000-GU, Kilo Wharf Extension (MILCON P-52), To Provide Adequate Berthing Facilities for Multi-Purpose Dry Cargo/Ammunition Ship (the T-AKE), Apra Harbor Naval Complex, Mariana Island, GU

Summary: EPA has continuing concerns regarding sufficiency of mitigation for impacts to coral reefs. EPA recommends the Navy commit to the preferred mitigation watershed restoration project agreed upon by the Navy and resource agencies and avoid selecting the contingency mitigation plan, which does not sufficiently replace lost ecosystem functions.

EIS No. 20070444, ERP No. F-USA-E15000-GA, Fort Benning U.S. Army Infantry Center, Base Realignment and Closure (BRAC) 2005 and Transformation Actions, Implementation, Chattahoochee and Muscogee Counties, GA.

Summary: EPA continues to have environmental concern about air quality impacts and requested additional work toward the development of a comprehensive alternative transportation program to assist the Columbus area in meeting air quality standards in the future.

EIS No. 20070460, ERP No. F-FRC-F03010-WI, Guardian Expansion and Extension Project, Construction and Operation Natural Gas Pipeline Facilities, Jefferson, Dodge, Fond du Lac, Calument, Brown, Walworth, Outagamie Counties, WI.

Summary: EPA continues to have environmental concerns about mitigation for wetland, upland forest, and wildlife habitat impacts.

EIS No. 20070461, ERP No. F-IBR-K39106-00, Colorado River Interim Guidelines for Lower Basin Shortages and Coordinated Operations for Lake Powell and Lake Mead, Implementation, Colorado River, CO and CA.

Summary: EPA does not object to the proposed project.

EIS No. 20070462, ERP No. F-MMS-E02011-00, Eastern Planning Area Outer Continental Shelf (OCS) Oil and Gas Lease Sale 224, Gulf of Mexico Offshore Marine Environment and Coastal Parishes/Counties of LA, MS, AL, and North Western Florida.

Summary: EPA continues to have environmental concerns about drilling fluid impacts, and requested additional field investigations on the effects of synthetic-based drilling fluids in the deep water environment.

EIS No. 20070479, ERP No. F-GSA-D11037-DC, Armed Forces Retirement Home (AFRH-W), Proposed Master Plan for Campus Located at 3700 North Capitol Street, NW., AFRH Trust Fund, Washington, DC.

Summary: EPA continues to have environmental concerns about Impacts to historic properties and developmental impacts.

EIS No. 20070438, ERP No. FS-NOA-B91017-00, Atlantic Sea Scallop Fishery Management Plan (FMP), Amendment 11, Implementation to Control Capacity and Mortality in the General Category Scallop Fishery, Gulf of Maine, Georges Bank, NC.

Summary: EPA's previous issues have been resolved; therefore, EPA has no objection to the proposed action.

Dated: December 11, 2007.
Robert W. Hargrove,
Director, NEPA Compliance Division, Office of Federal Activities.

[FR Doc. E7-24228 Filed 12-13-07; 8:45 am]

BILLING CODE 6560-50-P